FEDERAL ELECTION COMMISSION

11 CFR Chapter I

[Notice 2014-15]

Technical Amendments and Corrections

AGENCY: Federal Election Commission.

ACTION: Correcting amendments.

SUMMARY: The Commission is making technical corrections to various sections of its regulations.

DATES: Effective December 29, 2014.

FOR FURTHER INFORMATION CONTACT: Ms. Amy L. Rothstein, Assistant General Counsel, Ms. Jessica Selinkoff, Attorney, or Mr. Theodore M. Lutz, Attorney, 999 E Street NW., Washington, DC 20463, (202) 694-1650 or (800) 424-9530.

SUPPLEMENTARY INFORMATION:

Background

The existing rules that are the subject of these corrections are part of the continuing series of regulations that the Commission has promulgated to implement the Presidential Election Campaign Fund Act, 26 U.S.C. 9001-13, and the Presidential Primary Matching Payment Account Act, 26 U.S.C. 9031-42 (collectively, the “Funding Acts”), and the Federal Election Campaign Act of 1971, as amended, 52 U.S.C. 30101-45 (formerly 2 U.S.C. 431-55) (“FECA”). The Commission is promulgating these corrections without advance notice or an opportunity for comment because they fall under the “good cause” exemption of the Administrative Procedure Act. 5 U.S.C. 553(b)(B). The Commission finds that notice and comment are unnecessary here because these corrections are merely typographical and technical; they effect no substantive changes to any rule. For the same reason, these corrections fall within the “good cause” exception to the delayed effective date provisions of the Administrative Procedure Act and the Congressional Review Act. 5 U.S.C. 553(d)(3), 808(2).

Moreover, because these corrections are exempt from the notice and comment procedure of the Administrative Procedure Act under 5 U.S.C. 553(b), the Commission is not required to conduct a regulatory flexibility analysis under 5 U.S.C. 603 or 604. See 5 U.S.C. 601(2), 604(a). Nor is the Commission required to submit these revisions for congressional review under FECA or the Funding Acts. See 52 U.S.C. 30111(d)(1), (4) (formerly 2 U.S.C. 438(d)(1), (4)) (providing for congressional review when Commission “prescribe[s]” a “rule of law”); 26 U.S.C. 9009(c)(1), (4) (same); 26 U.S.C. 9039(c)(1), (4) (same). Accordingly, these corrections are effective upon publication in the Federal Register.

Corrections to FECA and Funding Act Rules in Chapter I of Title 11 of the Code of Federal Regulations

This document makes three categories of regulatory changes: Correcting typographical errors; updating references to the United States Code to reflect the recent transfer of FECA from Title 2 to Title 52; and correcting technical errors in certain updated citations.

A. Typographical Corrections

1. Corrections to 11 CFR 100.137

The Commission is correcting two typographical errors in this section. Section 100.137 concerns the cost of invitations, food, and beverages provided by a volunteer “on the individual's residential premises or in a church or community room as specified in 11 CFR 100.106 and 100.107.” However, the provisions concerning residential premises and church or community rooms are at 11 CFR 100.135 and 100.136, not 11 CFR 100.106 and 100.107; there are no regulations at 11 CFR 100.106 or 100.107. Thus, the Commission is replacing the reference to “11 CFR 100.106 and 100.107” with a reference to “11 CFR 100.135 and 100.136.”

2. Corrections to 11 CFR 114.1

The Commission is correcting two typographical errors in this section. First, the Commission is correcting paragraph (a)(2)(v) of this section by replacing “normal of comparable” with “normal or comparable.” Second, the Commission is correcting paragraph (e)(3) of this section by replacing “requirements on” with “requirements of.”

3. Correction to 11 CFR 114.3

The Commission is correcting a typographical error in paragraph (c)(1)(ii) of this section by replacing “a communications” with “a communication.”

4. Correction to 11 CFR 9003.5

The Commission is correcting a typographical error in paragraph (b)(1)(iii)(B) of this section by replacing “dairy” with “daily.” As corrected, the provision identifies a “daily travel expense policy” as an example of a “pre-established written campaign committee policy.”

B. Updating References to the United States Code

The Office of the Law Revision Counsel of the House of Representatives recently transferred the provisions of FECA from Title 2 of the United States Code to new Title 52.¹ This transfer changed the numbering of the Code sections but did not change any statutory text.

¹ The transfers occurred on September 1, 2014, for the online version of the United States Code and will occur with supplement II of the 2012 edition for the printed version of the Code. See Office of the Law Revision Counsel, Editorial Reclassification: Title 52, United States Code, http://uscode.house.gov/editorialreclassification/t52/index.html (last visited Dec. 1, 2014).

Accordingly, with certain limited exceptions, the Commission is making corresponding changes to references to Title 2 throughout 11 CFR chapter 1.² For example, the Commission is revising the reference to 2 U.S.C. 431(1) in the definition of “election” at 11 CFR 100.2 to refer, instead, to 52 U.S.C. 30101(1).³

² The Commission is not updating citations that it already updated in two prior rulemakings. See Aggregate Biennial Contribution Limits, 79 FR 62335 (Oct. 17, 2014) (revising 11 CFR part 110); Independent Expenditures and Electioneering Communications by Corporations and Labor Organizations, 79 FR 62797 (Oct. 21, 2014) (revising 11 CFR parts 104 and 114). The revisions made in the latter rulemaking are anticipated to go into effect in early 2015. See 79 FR at 62797 (noting effective date). The Commission is also not updating references in 11 CFR 300.12(d) and 11 CFR 300.35(d) to a provision of Title 2 that was repealed prior to FECA's transfer to Title 52.

³ See Office of the Law Revision Counsel, United States Code: Editorial Reclassification Table, http://uscode.house.gov/editorialreclassification/t52/Reclassifications_Title_52.html (last visited Dec. 1, 2014).

C. Corrections to United States Code References

Several citations to Title 2 in Commission regulations contain typographical errors. In the course of revising the citations from Title 2 to Title 52, the Commission is also correcting these errors.

1. Correction to 11 CFR 1.14

Paragraph (a) of this section erroneously refers to 2 U.S.C. 437d(9) rather than 2 U.S.C. 437d(a)(9). The Commission is correcting this reference and updating it to 52 U.S.C. 30107(a)(9).

2. Correction to Part 102

The authority citation for this part erroneously refers to 2 U.S.C. 441(d) rather than 2 U.S.C. 441d. The Commission is correcting this reference and updating it to 52 U.S.C. 30120.

3. Correction to 11 CFR 114.6

The authority citation following this section erroneously refers to 2 U.S.C. 438(8)(a) rather than 2 U.S.C. 438(a)(8). The Commission is correcting this reference and updating it to 52 U.S.C. 30111(a)(8).

4. Corrections to 11 CFR Part 115

The authority citation for this part contains several unnecessary and duplicative references to the public laws that established the Commission's rulemaking authority at 2 U.S.C. 437d(a)(8) and 2 U.S.C. 438(a)(8). It also erroneously refers to 2 U.S.C. 438(a)(10) rather than 2 U.S.C. 438(a)(8). The Commission is correcting and clarifying the authority citation by replacing the references to the public laws with updated statutory references to 52 U.S.C. 30107(a)(8) and 52 U.S.C. 30111(a)(8).

Additionally, although part 115 concerns contributions and expenditures by federal contractors, the current authority citation does not refer to the FECA provision concerning federal contractors, 52 U.S.C. 30119 (formerly 2 U.S.C. 441c). Thus, the Commission is also amending the authority citation to include a reference to this provision.

5. Correction to 11 CFR 9038.1

Paragraph (b)(1)(v) of this section erroneously refers to 2 U.S.C. 437(d)(a)(3) rather than 2 U.S.C. 437d(a)(3). The Commission is correcting this reference and updating it to 52 U.S.C. 30107(a)(3).

List of Subjects

11 CFR Part 1

Privacy.

11 CFR Part 2

Sunshine Act.

11 CFR Part 4

Freedom of information.

11 CFR Part 5

Archives and records.

11 CFR Part 7

Administrative practice and procedure, Conflict of interests.

11 CFR Part 8

Debt collection.

11 CFR Part 100

Elections.

11 CFR Part 101

Political candidates, Reporting and recordkeeping requirements.

11 CFR Part 102

Political committees and parties, Reporting and recordkeeping requirements.

11 CFR Part 103

Banks and banking, Campaign funds, Political committees and parties, Reporting and recordkeeping requirements.

11 CFR Part 104

Campaign funds, Political committees and parties, Reporting and recordkeeping requirements.

11 CFR Part 105

Campaign funds, Political candidates, Political committees and parties, Reporting and recordkeeping requirements.

11 CFR Part 106

Campaign funds, Political committees and parties, Reporting and recordkeeping requirements.

11 CFR Part 107

Campaign funds, Political committees and parties, Reporting and recordkeeping requirements.

11 CFR Part 108

Elections, Reporting and recordkeeping requirements.

11 CFR Part 109

Coordinated and independent expenditures.

11 CFR Part 110

Campaign funds, Political committees and parties.

11 CFR Part 111

Administrative practice and procedure, Elections, Law enforcement, Penalties.

11 CFR Part 112

Administrative practice and procedure, Elections.

11 CFR Part 113

Campaign funds, Political candidates.

11 CFR Part 114

Business and industry, Elections, Labor.

11 CFR Part 115

Elections, Government contracts.

11 CFR Part 116

Administrative practice and procedure, Business and industry, Credit, Elections, Political candidates, Political committees and parties.

11 CFR Part 200

Administrative practice and procedure.

11 CFR Part 201

Administrative practice and procedure.

11 CFR Part 300

Campaign funds, Nonprofit organizations, Political candidates, Political committees and parties, Reporting and recordkeeping requirements.

11 CFR Part 9001

Campaign funds.

11 CFR Part 9002

Campaign funds.

11 CFR Part 9003

Campaign funds, Reporting and recordkeeping requirements.

11 CFR Part 9004

Campaign funds.

11 CFR Part 9006

Campaign funds, Reporting and recordkeeping requirements.

11 CFR Part 9007

Administrative practice and procedure, Campaign funds.

11 CFR Part 9008

Campaign funds, Political committees and parties, Reporting and recordkeeping requirements.

11 CFR Part 9031

Campaign funds.

11 CFR Part 9032

Campaign funds.

11 CFR Part 9033

Campaign funds, Reporting and recordkeeping requirements.

11 CFR Part 9034

Campaign funds, Reporting and recordkeeping requirements.

11 CFR Part 9035

Campaign funds, Reporting and recordkeeping requirements.

11 CFR Part 9036

Administrative practice and procedure, Campaign funds, Reporting and recordkeeping requirements.

11 CFR Part 9038

Administrative practice and procedure, Campaign funds.

11 CFR Part 9039

Campaign funds, Reporting and recordkeeping requirements.

For the reasons set out in the preamble, the Federal Election Commission amends 11 CFR chapter I, as follows:

PART 1—PRIVACY ACT

1. The authority citation for part 1 continues to read as follows:

Authority: 5 U.S.C. 552a.

§ 1.1 [Amended]

2. Amend paragraph (c) of § 1.1 to remove “2 U.S.C. 437g(a)(4)(C) and 438(a)(4)” and add in its place “52 U.S.C. 30109(a)(4)(C) and 30111(a)(4)”.

§ 1.2 [Amended]

3. Amend § 1.2 to remove “2 U.S.C. 437c(a)” from the definition of “Commissioner” and add in its place “52 U.S.C. 30106(a)”.

4. Revise paragraph (a) of § 1.14 to read as follows:

§ 1.14 Specific exemptions.

(a) No individual, under the provisions of these regulations, shall be entitled to access to materials compiled in its systems of records identified as FEC audits and investigations (FEC 2) or FEC compliance actions (FEC 3). These exempted systems relate to the Commission's power to exercise exclusive civil jurisdiction over the enforcement of the Act under 52 U.S.C. 30107(a)(6) and (e); and to defend itself in actions filed against it under 52 U.S.C. 30107(a)(6). Further the Commission has a duty to investigate violations of the Act under 52 U.S.C. 30109(a)(2); to conduct audits and investigations pursuant to 52 U.S.C. 30111(b), 26 U.S.C. 9007 and 9038; and to refer apparent violations of the Act to the Attorney General or other law enforcement authorities under 52 U.S.C. 30109(a)(5) and 30107(a)(9). Information contained in FEC systems 2 and 3 contain the working papers of the Commission staff and form the basis for either civil and/or criminal proceedings pursuant to the exercise of the powers and duties of the Commission. These materials must be protected until such time as they are subject to public access under the provision of 52 U.S.C. 30109(a)(4)(B) or 5 U.S.C. 552, or other relevant statutes.

* * * * *

PART 2—SUNSHINE REGULATIONS; MEETINGS

5. The authority citation for part 2 continues to read as follows:

Authority: 5 U.S.C. 552b.

§ 2.2 [Amended]

6. Amend paragraph (b) of § 2.2 to remove “2 U.S.C. 437c(a)” and add in its place “52 U.S.C. 30106(a)”.

§ 2.4 [Amended]

7. In § 2.4:

a. Amend paragraph (a)(1) to remove “2 U.S.C. 437g(a)(12)” and add in its place “52 U.S.C. 30109(a)(12)”; and

b. Amend paragraph (a)(2) to remove “2 U.S.C. 437g” and add in its place “52 U.S.C. 30109”.

PART 4—PUBLIC RECORDS AND THE FREEDOM OF INFORMATION ACT

8. The authority citation for part 4 continues to read as follows:

Authority: 5 U.S.C. 552, as amended.

§ 4.1 [Amended]

9. In § 4.1:

a. Amend paragraph (b) to remove “2 U.S.C. 437c(a)” and add in its place “52 U.S.C. 30106(a)”; and

b. Amend paragraph (f) to remove “2 U.S.C. 437f(d), 437g(a)(4)(B)(ii), and 438(a)” and add in its place “52 U.S.C. 30108(d), 30109(a)(4)(B)(ii), and 30111(a)”.

§ 4.4 [Amended]

10. Amend paragraph (a)(3) of § 4.4 to remove “2 U.S.C. 437g” and add in its place “52 U.S.C. 30109”.

§ 4.5 [Amended]

11. Amend paragraph (a)(4)(vi) of § 4.5 to remove “2 U.S.C. 437g” and add in its place “52 U.S.C. 30109”.

PART 5—ACCESS TO PUBLIC DISCLOSURE DIVISION DOCUMENTS

12. Revise the authority citation for part 5 to read as follows:

Authority: 52 U.S.C. 30108(d), 30109(a)(4)(B)(ii), 30111(a); 31 U.S.C. 9701.

§ 5.1 [Amended]

13. In § 5.1:

a. Amend paragraph (b) to remove “2 U.S.C. 437c(a)” and add in its place “52 U.S.C. 30106(a)”; and

b. Amend paragraph (f) to remove “2 U.S.C. 437g(a)(4)(B)(ii), and 438(a)” and add, in its place, “52 U.S.C. 30109(a)(4)(B)(ii) and 30111(a)”.

§ 5.3 [Amended]

14. Amend paragraph (a) of § 5.3 to remove “2 U.S.C. 437f(d), 437g(a)(4)(B)(ii), and 438(a)” and add in its place “52 U.S.C. 30108(d), 30109(a)(4)(B)(ii), and 30111(a)”.

§ 5.4 [Amended]

15. In § 5.4:

a. Amend paragraph (a) introductory text to remove “2 U.S.C. 438(a)” and add in its place “52 U.S.C. 30111(a)”; and

b. Amend paragraph (a)(4) to remove “2 U.S.C. 437g” and add in its place “52 U.S.C. 30109”.

PART 7—STANDARDS OF CONDUCT

16. Revise the authority citation for part 7 to read as follows:

Authority: 52 U.S.C. 30106, 30107, and 30111; 5 U.S.C. 7321 et seq. and app. 3.

§ 7.2 [Amended]

17. Amend paragraph (b) of § 7.2 to remove “2 U.S.C. 437c” and add in its place “52 U.S.C. 30106”.

18. Revise § 7.7 to read as follows:

§ 7.7 Prohibition against making complaints and investigations public.

(a) Commission employees are subject to criminal penalties if they discuss or otherwise make public any matters pertaining to a complaint or investigation under 52 U.S.C. 30109, without the written permission of the person complained against or being investigated. Such communications are prohibited by 52 U.S.C. 30109(a)(12)(A).

(b) Section 30109(a)(12)(B) of Title 52 of the United States Code provides as follows: “Any member or employee of the Commission, or any other person, who violates the provisions of [52 U.S.C. 30109(a)(12)(A)] shall be fined not more than $2,000. Any such member, employee, or other person who knowingly and willfully violates the provisions of [52 U.S.C. 30109(a)(12)(A)] shall be fined not more than $5,000.”

§ 7.8 [Amended]

19. In § 7.8:

a. Amend introductory text to remove “2 U.S.C. 437g” and add in its place “52 U.S.C. 30109”; and

b. Amend paragraph (b) to remove “2 U.S.C. 437g(a)(1)” and add in its place “52 U.S.C. 30109(a)(1)” and to remove “2 U.S.C. 437g(a)(2)” and add in its place “52 U.S.C. 30109(a)(2)”.

PART 8—COLLECTION OF ADMINISTRATIVE DEBTS

20. Revise the authority citation for part 8 to read as follows:

Authority: 31 U.S.C. 3701, 3711, and 3716-3720A, as amended; 52 U.S.C. 30101 et seq.; 31 CFR parts 285 and 900-904.

PART 100—SCOPE AND DEFINITIONS (52 U.S.C. 30101)

21. Revise the authority citation for part 100 to read as follows:

Authority: 52 U.S.C. 30101, 30104, 30111(a)(8), and 30114(c).

22. Revise the part heading to read as shown above.

§ 100.1 [Amended]

23. Amend § 100.1 to remove “2 U.S.C. 431” and add in its place “52 U.S.C. 30101”.

24. Revise the section heading of § 100.2 to read as follows:

§ 100.2 Election (52 U.S.C. 30101(1)).

* * * * *

25. Revise the section heading of § 100.3 to read as follows:

§ 100.3 Candidate (52 U.S.C. 30101(2)).

* * * * *

26. Revise the section heading of § 100.4 to read as follows:

§ 100.4 Federal office (52 U.S.C. 30101(3)).

* * * * *

27. In § 100.5,

a. Revise the section heading to read as set forth below; and

b. Amend paragraph (b) to remove “2 U.S.C. 441b(b)(2)(C)” and add in its place “52 U.S.C. 30118(b)(2)(C)”.

§ 100.5 Political committee (52 U.S.C. 30101(4), (5), and (6)).

* * * * *

28. Revise the section heading of § 100.6 to read as follows:

§ 100.6 Connected organization (52 U.S.C. 30101(7)).

* * * * *

29. Revise the section heading of § 100.9 to read as follows:

§ 100.9 Commission (52 U.S.C. 30101(10)).

* * * * *

30. Revise the section heading of § 100.10 to read as follows:

§ 100.10 Person (52 U.S.C. 30101(11)).

* * * * *

31. Revise the section heading of § 100.11 to read as follows:

§ 100.11 State (52 U.S.C. 30101(12)).

* * * * *

32. Revise the section heading of § 100.12 to read as follows:

§ 100.12 Identification (52 U.S.C. 30101(13)).

* * * * *

33. Revise the section heading of § 100.13 to read as follows:

§ 100.13 National committee (52 U.S.C. 30101(14)).

* * * * *

34. Revise the section heading of § 100.14 to read as follows:

§ 100.14 State Committee, subordinate committee, district, or local committee (52 U.S.C. 30101(15)).

* * * * *

35. Revise the section heading of § 100.15 to read as follows:

§ 100.15 Political party (52 U.S.C. 30101(16)).

* * * * *

36. Revise the section heading of § 100.16 to read as follows:

§ 100.16 Independent expenditure (52 U.S.C. 30101(17)).

* * * * *

37. Revise the section heading of § 100.17 to read as follows:

§ 100.17 Clearly identified (52 U.S.C. 30101(18)).

* * * * *

38. Revise § 100.18 to read as follows:

§ 100.18 Act (52 U.S.C. 30101(19)).

Act means the Federal Election Campaign Act of 1971, as amended, 52 U.S.C. 30101 et seq.

39. Revise the section heading of § 100.19 to read as follows:

§ 100.19 File, filed, or filing (52 U.S.C. 30104(a)).

* * * * *

40. Revise the section heading of § 100.20 to read as follows:

§ 100.20 Occupation (52 U.S.C. 30101(13)).

* * * * *

41. Revise the section heading of § 100.21 to read as follows:

§ 100.21 Employer (52 U.S.C. 30101(13)).

* * * * *

42. Revise the section heading of § 100.22 to read as follows:

§ 100.22 Expressly advocating (52 U.S.C. 30101(17)).

* * * * *

43. Revise the section heading of § 100.24 to read as follows:

§ 100.24 Federal election activity (52 U.S.C. 30101(20)).

* * * * *

44. Revise the section heading of § 100.25 to read as follows:

§ 100.25 Generic campaign activity (52 U.S.C. 30101(21)).

* * * * *

45. Revise the section heading of § 100.26 to read as follows:

§ 100.26 Public communication (52 U.S.C. 30101(22)).

* * * * *

46. Revise the section heading of § 100.27 to read as follows:

§ 100.27 Mass mailing (52 U.S.C. 30101(23)).

* * * * *

47. Revise the section heading of § 100.28 to read as follows:

§ 100.28 Telephone bank (52 U.S.C. 30101(24)).

* * * * *

48. Revise the section heading of § 100.29 to read as follows:

§ 100.29 Electioneering communication (52 U.S.C. 30104(f)(3)).

* * * * *

49. Revise the subpart B heading to read as follows:

Subpart B—Definition of Contribution (52 U.S.C. 30101(8))

§ 100.52 [Amended]

50. Amend paragraph (b)(1) of § 100.52 to remove “2 U.S.C. 441a” and add in its place “52 U.S.C. 30116”.

§ 100.87 [Amended]

51. Amend paragraph (g) of § 100.87 to remove “2 U.S.C. 441a(d)” and add in its place “52 U.S.C. 30116(d)”.

§ 100.89 [Amended]

52. Amend paragraph (g) of § 100.89 to remove “2 U.S.C. 441a(d)” and add in its place “52 U.S.C. 30116(d)”.

53. Revise the subpart D heading to read as follows:

Subpart D—Definition of Expenditure (52 U.S.C. 30101(9))

§ 100.137 [Amended]

54. Amend § 100.137 to remove “11 CFR 100.106 and 100.107” and add in its place “11 CFR 100.135 and 100.136”.

§ 100.147 [Amended]

55. Amend paragraph (g) of § 100.147 to remove “2 U.S.C. 441a(d)” and add in its place “52 U.S.C. 30116(d)”.

§ 100.149 [Amended]

56. Amend paragraph (g) of § 100.149 to remove “2 U.S.C. 441a(d)” and add in its place “52 U.S.C. 30116(d)”.

PART 101—CANDIDATE STATUS AND DESIGNATIONS (52 U.S.C. 30102(e))

57. Revise the authority citation for part 101 to read as follows:

Authority: 52 U.S.C. 30102(e), 30104(a)(11), and 30111(a)(8).

58. Revise the part heading to read as shown above.

59. Revise the section heading of § 101.1 to read as follows:

§ 101.1 Candidate designations (52 U.S.C. 30102(e)(1)).

* * * * *

60. Revise the section heading of § 101.2 to read as follows:

§ 101.2 Candidate as agent of authorized committee (52 U.S.C. 30102(e)(2)).

* * * * *

61. Revise the section heading of § 101.3 to read as follows:

§ 101.3 Funds received or expended prior to becoming a candidate (52 U.S.C. 30102(e)(2)).

* * * * *

PART 102—REGISTRATION, ORGANIZATION, AND RECORDKEEPING BY POLITICAL COMMITTEES (52 U.S.C. 30103)

62. Revise the authority citation for part 102 to read as follows:

Authority: 52 U.S.C. 30102, 30103, 30104(a)(11), 30111(a)(8), and 30120.

63. Revise the part heading to read as shown above.

64. In § 102.1,

a. Revise the section heading to read as set forth below; and

b. Amend paragraph (c) to remove “2 U.S.C. 441b(b)(2)(C)” and add in its place “52 U.S.C. 30118(b)(2)(C)”.

§ 102.1 Registration of political committees (52 U.S.C. 30103(a)).

* * * * *

65. Revise the section heading of § 102.2 to read as follows:

§ 102.2 Statement of organization: Forms and committee identification number (52 U.S.C. 30103(b), (c)).

* * * * *

66. Revise the section heading of § 102.3 to read as follows:

§ 102.3 Termination of registration (52 U.S.C. 30103(d)(1)).

* * * * *

67. Revise the section heading of § 102.4 to read as follows:

§ 102.4 Administrative termination (52 U.S.C. 30103(d)(2)).

* * * * *

68. Revise the section heading of § 102.7 to read as follows:

§ 102.7 Organization of political committees (52 U.S.C. 30102(a)).

* * * * *

69. Revise the section heading of § 102.8 to read as follows:

§ 102.8 Receipt of contributions (52 U.S.C. 30102(b)).

* * * * *

70. Revise the section heading of § 102.9 to read as follows:

§ 102.9 Accounting for contributions and expenditures (52 U.S.C. 30102(c)).

* * * * *

71. Revise the section heading of § 102.10 to read as follows:

§ 102.10 Disbursement by check (52 U.S.C. 30102(h)(1)).

* * * * *

72. Revise the section heading of § 102.11 to read as follows:

§ 102.11 Petty cash fund (52 U.S.C. 30102(h)(2)).

* * * * *

73. Revise the section heading of § 102.12 to read as follows:

§ 102.12 Designation of principal campaign committee (52 U.S.C. 30102(e)(1) and (3)).

* * * * *

74. Revise the section heading of § 102.13 to read as follows:

§ 102.13 Authorization of political committees (52 U.S.C. 30102(e)(1) and (3)).

* * * * *

75. Revise the section heading of § 102.14 to read as follows:

§ 102.14 Names of political committees (52 U.S.C. 30102(e)(4) and (5)).

* * * * *

76. In § 102.15:

a. Revise the section heading to read as set forth below; and

b. Remove “2 U.S.C. 441b” and add in its place “52 U.S.C. 30118”.

§ 102.15 Commingled funds (52 U.S.C. 30102(b)(3)).

* * * * *

77. Revise the section heading of § 102.16 to read as follows:

* * * * *

§ 102.16 Notice: Solicitation of contributions (52 U.S.C. 30120).

PART 103—CAMPAIGN DEPOSITORIES (52 U.S.C. 30102(h))

78. Revise the authority citation for part 103 to read as follows:

Authority: 52 U.S.C. 30102(h), 30111(a)(8).

79. Revise the part heading to read as shown above.

80. Revise the section heading of § 103.2 to read as follows:

§ 103.2 Depositories (52 U.S.C. 30102(h)(1)).

* * * * *

81. Revise the section heading of § 103.3 to read as follows:

§ 103.3 Deposit of receipts and disbursements (52 U.S.C. 30102(h)(1)).

* * * * *

PART 104—REPORTS BY POLITICAL COMMITTEES AND OTHER PERSONS (2 U.S.C. 434)

82. The authority citation for part 104 continues to read as follows:

Authority: 2 U.S.C. 431(1), 431(8), 431(9), 432(i), 434, 438(a)(8) and (b), 439a, 441a; 36 U.S.C. 510.

83. Revise the section heading of § 104.1 to read as follows:

§ 104.1 Scope (52 U.S.C. 30104(a)).

* * * * *

84. In § 104.3,

a. Revise the section heading to read as set forth below;

b. Amend paragraphs (a)(3)(iii), (b)(1)(viii), and (b)(3)(viii) to remove “2 U.S.C. 441a(d)” and add in its place “52 U.S.C. 30116(d)”; and

c. Amend paragraph (b)(2)(iv) to remove “2 U.S.C. 441a(b)” and add in its place “52 U.S.C. 30116(b)”.

§ 104.3 Contents of reports (52 U.S.C. 30104(b), 30114).

* * * * *

85. Revise the section heading of § 104.4 to read as follows:

§ 104.4 Independent expenditures by political committees (52 U.S.C. 30104(b), (d), and (g)).

* * * * *

86. Revise the section heading of § 104.5 to read as follows:

§ 104.5 Filing dates (52 U.S.C. 30104(a)(2)).

* * * * *

87. Revise the section heading of § 104.6 to read as follows:

§ 104.6 Form and content of internal communications reports (52 U.S.C. 30101(9)(B)(iii)).

* * * * *

88. Revise the section heading of § 104.7 to read as follows:

§ 104.7 Best efforts (52 U.S.C. 30102(i)).

* * * * *

89. Revise the section heading of § 104.15 to read as follows:

§ 104.15 Sale or use restriction (52 U.S.C. 30111(a)(4)).

* * * * *

90. Revise the section heading of § 104.16 to read as follows:

§ 104.16 Audits (52 U.S.C. 30111(b)).

* * * * *

91. Revise the section heading of § 104.18 to read as follows:

§ 104.18 Electronic filing of reports (52 U.S.C. 30102(d) and 30104(a)(11)).

* * * * *

92. Revise the section heading of § 104.22 to read as follows:

§ 104.22 Disclosure of bundling by Lobbyist/Registrants and Lobbyist/Registrant PACs (52 U.S.C. 30104(i)).

* * * * *

PART 105—DOCUMENT FILING (52 U.S.C. 30102(g))

93. Revise the authority citation for part 105 to read as follows:

Authority: 52 U.S.C. 30102(g), 30104, 30111(a)(8).

94. Revise the part heading to read as shown above.

95. Revise the section heading of § 105.1 to read as follows:

§ 105.1 Place of filing; House candidates and their authorized committees (52 U.S.C. 30102(g)(1)).

* * * * *

96. Revise the section heading of § 105.2 to read as follows:

§ 105.2 Place of filing; Senate candidates, their principal campaign committees, and committees supporting only Senate candidates (52 U.S.C. 30102(g), 30104(g)(3)).

* * * * *

97. Revise the section heading of § 105.3 to read as follows:

§ 105.3 Place of filing; Presidential candidates and their principal campaign committees (52 U.S.C. 30102(g)(4)).

* * * * *

98. Revise the section heading of § 105.4 to read as follows:

§ 105.4 Place of filing; political committees and other persons (52 U.S.C. 30102(g)(4)).

* * * * *

99. Revise the section heading of § 105.5 to read as follows:

§ 105.5 Transmittal of microfilm copies and photocopies of original reports filed with the Secretary of the Senate to the Commission (52 U.S.C. 30102(g)(3)).

* * * * *

PART 106—ALLOCATIONS OF CANDIDATE AND COMMITTEE ACTIVITIES

100. Revise the authority citation for part 106 to read as follows:

Authority: 52 U.S.C. 30111(a)(8), 30116(b), 30116(g).

101. Revise the authority citation at the end of § 106.1 to read as follows:

§ 106.1 Allocation of expenses between candidates.

* * * * *

(52 U.S.C. 30111(a)(8))

102. Revise the authority citation at the end of § 106.3 to read as follows:

§ 106.3 Allocation of expenses between campaign and non-campaign related travel.

* * * * *

(52 U.S.C. 30111(a)(8))

PART 107—PRESIDENTIAL NOMINATING CONVENTION, REGISTRATION AND REPORTS

103. Revise the authority citation for part 107 to read as follows:

Authority: 52 U.S.C. 30105, 30111(a)(8).

PART 108—FILING COPIES OF REPORTS AND STATEMENTS WITH STATE OFFICERS (52 U.S.C. 30113)

104. Revise the authority citation for part 108 to read as follows:

Authority: 52 U.S.C. 30104(a)(2), 30111(a)(8), 30113, 30143.

105. Revise the part heading to read as shown above.

106. Revise the section heading of § 108.1 to read as follows:

§ 108.1 Filing requirements (52 U.S.C. 30113(a)(1)).

* * * * *

107. Revise the section heading of § 108.2 to read as follows:

§ 108.2 Filing copies of reports and statements in connection with the campaign of any candidate seeking nomination for election to the Office of President or Vice-President (52 U.S.C. 30113(a)(2)).

* * * * *

108. Revise the section heading of § 108.3 to read as follows:

§ 108.3 Filing copies of reports and statements in connection with the campaign of any congressional candidate (52 U.S.C. 30113(a)(2)).

* * * * *

109. Revise the section heading of § 108.4 to read as follows:

§ 108.4 Filing copies of reports by committees other than principal campaign committees (52 U.S.C. 30113(a)(2)).

* * * * *

110. Revise the section heading of § 108.5 to read as follows:

§ 108.5 Time and manner of filing copies (52 U.S.C. 30104(a)(2)).

* * * * *

111. Revise the section heading of § 108.6 to read as follows:

§ 108.6 Duties of State officers (52 U.S.C. 30113(b)).

* * * * *

112. Revise the section heading of § 108.7 to read as follows:

§ 108.7 Effect on State law (52 U.S.C. 30143).

* * * * *

PART 109—COORDINATED AND INDEPENDENT EXPENDITURES (52 U.S.C. 30101(17), 30116(a) and (d), and PUB. L. 107-155 SEC. 214(C))

113. Revise the authority citation for part 109 to read as follows:

Authority: 52 U.S.C. 30101(17), 30104(c), 30111(a)(8), 30116, 30120; Sec. 214(c), Pub. L. 107-155, 116 Stat. 81.

114. Revise the part heading to read as shown above.

PART 110—CONTRIBUTION AND EXPENDITURE LIMITATIONS AND PROHIBITIONS

115. The authority citation for part 110 continues to read as follows:

Authority: 52 U.S.C. 30101(8), 30101(9), 30102(c)(2), 30104(i)(3), 30111(a)(8), 30116, 30118, 30120, 30121, 30122, 30123, 30124; 36 U.S.C. 510.

116. Revise the section heading of § 110.2 to read as follows:

§ 110.2 Contributions by multicandidate political committees (52 U.S.C. 30116(a)(2)).

* * * * *

117. Revise the section heading of § 110.3 to read as follows:

§ 110.3 Contribution limitations for affiliated committees and political party committees; transfers (52 U.S.C. 30116(a)(4), 30116(a)(5)).

* * * * *

118. Revise the section heading of § 110.4 to read as follows:

§ 110.4 Contributions in the name of another; cash contributions (52 U.S.C. 30122, 30123, 30102(c)(2)).

* * * * *

119. Revise the section heading of § 110.6 to read as follows:

§ 110.6 Earmarked contributions (52 U.S.C. 30116(a)(8)).

* * * * *

120. In § 110.11:

a. Revise the section heading to read as set forth below; and

b. Amend paragraphs (d)(1)(i), (d)(1)(ii), and (d)(2) to remove “2 U.S.C. 441a(d)” and add in its place “52 U.S.C. 30116(d)”.

§ 110.11 Communications; advertising; disclaimers (52 U.S.C. 30120).

* * * * *

121. Revise the section heading of § 110.20 to read as follows:

§ 110.20 Prohibition on contributions, donations, expenditures, independent expenditures, and disbursements by foreign nationals (52 U.S.C. 30121, 36 U.S.C. 510).

* * * * *

PART 111—COMPLIANCE PROCEDURE (52 U.S.C. 30109, 30107(a))

122. Revise the authority citation for part 111 to read as follows:

Authority: 52 U.S.C. 30102(i), 30109, 30107(a), 30111(a)(8); 28 U.S.C. 2461 note; 31 U.S.C. 3701, 3711, 3716-3719, and 3720A, as amended; 31 CFR parts 285 and 900-904.

123. Revise the part heading to read as shown above.

124. In § 111.1:

a. Revise the section heading to read as set forth below; and

b. Amend the text to remove “2 U.S.C. 431” and add in its place “52 U.S.C. 30101”.

§ 111.1 Scope (52 U.S.C. 30109).

* * * * *

125. Revise the section heading of § 111.3 to read as follows:

§ 111.3 Initiation of compliance matters (52 U.S.C. 30109(a)(1), (2)).

* * * * *

126. Revise the section heading of § 111.4 to read as follows:

§ 111.4 Complaints (52 U.S.C. 30109(a)(1)).

* * * * *

127. Revise the section heading of § 111.5 to read as follows:

§ 111.5 Initial complaint processing; notification (52 U.S.C. 30109(a)(1)).

* * * * *

128. Revise the section heading of § 111.6 to read as follows:

§ 111.6 Opportunity to demonstrate that no action should be taken on complaint-generated matters (52 U.S.C. 30109(a)(1)).

* * * * *

129. Revise the section heading of § 111.7 to read as follows:

§ 111.7 General Counsel's recommendation on complaint-generated matters (52 U.S.C. 30109(a)(1)).

* * * * *

130. In § 111.8:

a. Revise the section heading to read as set forth below; and

b. Amend paragraph (d) to remove “2 U.S.C. 434(a)” and add in its place “52 U.S.C. 30104(a)”.

§ 111.8 Internally generated matters; referrals (52 U.S.C. 30109(a)(2)).

* * * * *

131. Revise the section heading of § 111.9 to read as follows:

§ 111.9 The reason to believe finding; notification (52 U.S.C. 30109(a)(2)).

* * * * *

132. Revise the section heading of § 111.10 to read as follows:

§ 111.10 Investigation (52 U.S.C. 30109(a)(2)).

* * * * *

133. Revise the section heading of § 111.11 to read as follows:

§ 111.11 Written questions under order (52 U.S.C. 30107(a)(1)).

* * * * *

134. Revise the section heading of § 111.12 to read as follows:

§ 111.12 Subpoenas and subpoenas duces tecum; depositions (52 U.S.C. 30107(a)(3), (4)).

* * * * *

135. Revise the section heading of § 111.13 to read as follows:

§ 111.13 Service of subpoenas, orders and notifications (52 U.S.C. 30107(a)(3), (4)).

* * * * *

136. Revise the section heading of § 111.14 to read as follows:

§ 111.14 Witness fees and mileage (52 U.S.C. 30107(a)(5)).

* * * * *

137. Revise the section heading of § 111.15 to read as follows:

§ 111.15 Motions to quash or modify a subpoena (52 U.S.C. 30107(a)(3), (4)).

* * * * *

138. Revise the section heading of § 111.16 to read as follows:

§ 111.16 The probable cause to believe recommendation; briefing procedures (52 U.S.C. 30109(a)(3)).

* * * * *

139. Revise the section heading of § 111.17 to read as follows:

§ 111.17 The probable cause to believe finding; notification (52 U.S.C. 30109(a)(4)).

* * * * *

140. Revise the section heading of § 111.18 to read as follows:

§ 111.18 Conciliation (52 U.S.C. 30109(a)(4)).

* * * * *

141. Revise the section heading of § 111.19 to read as follows:

§ 111.19 Civil proceedings (52 U.S.C. 30109(a)(6)).

* * * * *

142. In § 111.20:

a. Revise the section heading to read as set forth below; and

b. Amend paragraph (c) to remove “2 U.S.C. 437g” and add in its place “52 U.S.C. 30109”.

§ 111.20 Public disclosure of Commission action (52 U.S.C. 30109(a)(4)).

* * * * *

143. Revise the section heading of § 111.21 to read as follows:

§ 111.21 Confidentiality (52 U.S.C. 30109(a)(12)).

* * * * *

144. In § 111.24:

a. Revise the section heading to read as set forth below;

b. Amend paragraph (a)(2)(ii) to remove “2 U.S.C. 441f” and add in its place “52 U.S.C. 30122”; and

c. Amend paragraph (b) to remove “2 U.S.C. 437g(a)(12)(A)” and add in its place “52 U.S.C. 30109(a)(12)(A)” and to remove “2 U.S.C. 437g” and add in its place “52 U.S.C. 30109”.

§ 111.24 Civil Penalties (52 U.S.C. 30109(a)(5), (6), (12), 28 U.S.C. 2461 nt.).

* * * * *

§ 111.30 [Amended]

145. Amend § 111.30 to remove “2 U.S.C. 434(a)” and add in its place “52 U.S.C. 30104(a)” and to remove “2 U.S.C. 437g(a)(4)(C)(v)” and add in its place “52 U.S.C. 30109(a)(4)(C)(v)”.

146. In § 111.31:

a. Revise the section heading to read as set forth below;

b. Amend paragraph (b) to remove “2 U.S.C. 434(a)” and add in its place “52 U.S.C. 30104(a)”.

§ 111.31 Does this subpart replace subpart A of this part for violations of the reporting requirements of 52 U.S.C. 30104(a)?

* * * * *

§ 111.32 [Amended]

147. Amend the introductory text of § 111.32 to remove “2 U.S.C. 434(a)” and add in its place “52 U.S.C. 30104(a)”.

§ 111.37 [Amended]

148. Amend paragraph (a) of § 111.37 to remove “2 U.S.C. 434(a)” and add in its place “52 U.S.C. 30104(a)”.

§ 111.38 [Amended]

149. Amend § 111.38 to remove “2 U.S.C. 437g” and add in its place “52 U.S.C. 30109”.

§ 111.39 [Amended]

150. Amend paragraph (c) of § 111.39 to remove “2 U.S.C. 437g(a)(6)(A)” and add in its place “52 U.S.C. 30109(a)(6)(A)”.

§ 111.40 [Amended]

151. In § 111.40:

a. Amend paragraph (a) to remove “2 U.S.C. 434(a)” and add in its place “52 U.S.C. 30104(a)”; and

b. Amend paragraph (c) to remove “2 U.S.C. 437g(a)(6)(A)” and add in its place “52 U.S.C. 30109(a)(6)(A)”.

§ 111.44 [Amended]

152. Amend paragraph (a) of § 111.44 to remove “2 U.S.C. 434(a)(6)” and add in its place “52 U.S.C. 30104(a)(6)”.

§ 111.51 [Amended]

153. Amend paragraph (a) of § 111.51 to remove “2 U.S.C. 431” and add in its place “52 U.S.C. 30101”.

§ 111.53 [Amended]

154. In § 111.53:

a. Remove “2 U.S.C. 437g(a)(5)(D)” and add in its place “52 U.S.C. 30109(a)(5)(D)”;

b. Remove “2 U.S.C. 437g(a)(6)” and add in its place “52 U.S.C. 30109(a)(6)”; and

c. Remove “2 U.S.C. 437g(a)(11)” and add in its place “52 U.S.C. 30109(a)(11)”.

PART 112—ADVISORY OPINIONS (52 U.S.C. 30108)

155. Revise the authority citation for part 112 to read as follows:

Authority: 52 U.S.C. 30108, 30111(a)(8).

156. Revise the part heading to read as shown above.

157. Revise the section heading of § 112.1 to read as follows:

§ 112.1 Requests for advisory opinions (52 U.S.C. 30108(a)(1)).

* * * * *

158. Revise the section heading of § 112.2 to read as follows:

§ 112.2 Public availability of requests (52 U.S.C. 30108(d)).

* * * * *

159. Revise the section heading of § 112.3 to read as follows:

§ 112.3 Written comments on requests (52 U.S.C. 30108(d)).

* * * * *

160. In § 112.4:

a. Revise the section heading to read as set forth below; and

b. Amend paragraph (e) to remove “2 U.S.C. 438(d)” and add in its place “52 U.S.C. 30111(d)”.

§ 112.4 Issuance of advisory opinions (52 U.S.C. 30108(a) and (b)).

* * * * *

161. Revise the section heading of § 112.5 to read as follows:

§ 112.5 Reliance on advisory opinions (52 U.S.C. 30108(c)).

* * * * *

PART 113—PERMITTED AND PROHIBITED USES OF CAMPAIGN ACCOUNTS

162. Revise the authority citation for part 113 to read as follows:

Authority: 52 U.S.C. 30102(h), 30111(a)(8), 30114, and 30116.

163. Revise the section heading of § 113.1 to read as follows:

§ 113.1 Definitions (52 U.S.C. 30114).

* * * * *

164. Revise the section heading of § 113.2 to read as follows:

§ 113.2 Permissible non-campaign use of funds (52 U.S.C. 30114).

165. Revise the section heading of § 113.3 to read as follows:

§ 113.3 Deposits of funds donated to a Federal or State officeholder (52 U.S.C. 30102(h)).

* * * * *

166. In § 113.4:

a. Revise the section heading to read as set forth below; and

b. Amend paragraph (a) to remove “2 U.S.C. 441a” and add in its place “52 U.S.C. 30116”.

§ 113.4 Contribution and expenditure limitations (52 U.S.C. 30116).

* * * * *

167. Revise the section heading of § 113.5 to read as follows:

§ 113.5 Restrictions on use of campaign funds for flights on noncommercial aircraft (52 U.S.C. 30114(c)).

* * * * *

PART 114—CORPORATE AND LABOR ORGANIZATION ACTIVITY

168. The authority citation for part 114 continues to read as follows:

Authority: 2 U.S.C. 431(8), 431(9), 432, 434, 437d(a)(8), 438(a)(8), and 441b.

169. In § 114.1:

a. Amend paragraph (a)(2)(v) to remove “normal of comparable” and add in its place “normal or comparable”;

b. Amend paragraph (e)(3) to remove “requirements on” and add in its place “requirements of”; and

c. Amend the authority citation at the end of the section to read as follows:

§ 114.1 Definitions.

* * * * *

(52 U.S.C. 30101(8)(B)(iii), 30102(c)(3), 30107(a)(8), 30111(a)(8), 30118)

§ 114.3 [Amended]

170. In paragraph (c)(1)(ii) of § 114.3, remove “a communications” and add in its place “a communication”.

171. Revise the authority citation at the end of § 114.5 to read as follows:

§ 114.5 Separate segregated funds.

* * * * *

(52 U.S.C. 30118, 30107(a)(8))

172. Revise the authority citation at the end of § 114.6 to read as follows:

§ 114.6 Twice yearly solicitations.

* * * * *

(52 U.S.C. 30101(8)(B)(iii), 30102(c)(3), 30111(a)(8))

173. Revise the authority citation at the end of § 114.7 to read as follows:

§ 114.7 Membership organizations, cooperatives, or corporations without capital stock.

* * * * *

(52 U.S.C. 30118, 30107(a)(8))

174. Revise the authority citation at the end of § 114.8 to read as follows:

§ 114.8 Trade associations.

* * * * *

(52 U.S.C. 30118, 30107(a)(8))

PART 115—FEDERAL CONTRACTORS

175. Revise the authority citation for part 115 to read as follows:

Authority: 52 U.S.C. 30107(a)(8), 30111(a)(8), and 30119.

PART 116—DEBTS OWED BY CANDIDATES AND POLITICAL COMMITTEES

176. Revise the authority citation for part 116 to read as follows:

Authority: 52 U.S.C. 30103(d), 30104(b)(8), 30111(a)(8), 30116, 30118, and 30141.

§ 116.2 [Amended]

177. Amend paragraph (c)(3) of § 116.2 to remove “2 U.S.C. 437g” and add in its place “52 U.S.C. 30109”.

§ 116.3 [Amended]

178. Amend paragraph (d) of § 116.3 to remove “2 U.S.C. 451” and add in its place “52 U.S.C. 30141”.

PART 200—PETITIONS FOR RULEMAKING

179. Revise the authority citation for part 200 to read as follows:

Authority: 52 U.S.C. 30107(a)(8), 52 U.S.C. 30111(a)(8); 5 U.S.C. 553(e).

§ 200.2 [Amended]

180. Amend paragraph (a)(1) of § 200.2 to remove “2 U.S.C. 431” and add in its place “52 U.S.C. 30101”.

§ 200.3 [Amended]

181. Amend paragraph (a)(2) of § 200.3 to remove “2 U.S.C. 438(f)” and add in its place “52 U.S.C. 30111(f)”.

PART 201—EX PARTE COMMUNICATIONS

182. Revise the authority citation for part 201 to read as follows:

Authority: 52 U.S.C. 30107(a)(8), 30108, 30111(a)(8), and 30111(b); 26 U.S.C. 9007, 9008, 9009(b), 9038, and 9039(b).

§ 201.2 [Amended]

183. Amend paragraph (c) of § 201.2 to remove “2 U.S.C. 437c(a)” and add in its place “52 U.S.C. 30106(a)”.

§ 201.3 [Amended]

184. Amend paragraph (b)(2)(ii) of § 201.3 to remove “2 U.S.C. 438(b)” and add in its place “52 U.S.C. 30111(b)”.

PART 300—NON-FEDERAL FUNDS

185. Revise the authority citation for part 300 to read as follows:

Authority: 52 U.S.C. 30104(e), 30111(a)(8), 30116(a), 30125, and 30143.

§ 300.1 [Amended]

186. Amend paragraph (a) of § 300.1 to remove “sections 431 to 455 of Title 2” and add in its place “sections 30101 to 30145 of Title 52”.

187. Revise the section heading of § 300.10 to read as follows:

§ 300.10 General prohibitions on raising and spending non-Federal funds (52 U.S.C. 30125(a) and (c)).

* * * * *

188. Revise the section heading of § 300.11 to read as follows:

§ 300.11 Prohibitions on fundraising for and donating to certain tax-exempt organizations (52 U.S.C. 30125(d)).

* * * * *

§ 300.12 [Amended]

189. Amend paragraph (b)(1) of § 300.12 to remove “2 U.S.C. 431(9)” and add in its place “52 U.S.C. 30101(9)”.

190. Revise the section heading of § 300.13 to read as follows:

§ 300.13 Reporting (52 U.S.C. 30101 note and 30104(e)).

* * * * *

§ 300.31 [Amended]

191. Amend paragraph (c) of § 300.31 to remove “2 U.S.C. 441e” and add in its place “52 U.S.C. 30121”.

§ 300.35 [Amended]

192. Amend paragraph (a) of § 300.35 to remove “2 U.S.C. 441e” and add in its place “52 U.S.C. 30121”.

§ 300.36 [Amended]

193. Amend paragraphs (a)(2) and (b)(1) of § 300.36 to remove “2 U.S.C. 431(9)” and add in its place “52 U.S.C. 30101(9)”.

194. Revise the section heading of § 300.37 to read as follows:

§ 300.37 Prohibitions on fundraising for and donating to certain tax-exempt organizations (52 U.S.C. 30125(d)).

* * * * *

195. Revise the section heading of § 300.50 to read as follows:

§ 300.50 Prohibited fundraising by national party committees (52 U.S.C. 30125(d)).

* * * * *

196. Revise the section heading of § 300.51 to read as follows:

§ 300.51 Prohibited fundraising by State, district, or local party committees (52 U.S.C. 30125(d)).

* * * * *

197. Revise the section heading of § 300.52 to read as follows:

§ 300.52 Fundraising by Federal candidates and Federal officeholders (52 U.S.C. 30125(e)(1) and (4)).

* * * * *

198. Revise the section heading of § 300.60 to read as follows:

§ 300.60 Scope (52 U.S.C. 30125(e)(1)).

* * * * *

199. Revise the section heading of § 300.61 to read as follows:

§ 300.61 Federal elections (52 U.S.C. 30125(e)(1)(A)).

* * * * *

200. Revise the section heading of § 300.62 to read as follows:

§ 300.62 Non-Federal elections (52 U.S.C. 30125(e)(1)(B)).

* * * * *

201. Revise the section heading of § 300.63 to read as follows:

§ 300.63 Exception for State candidates (52 U.S.C. 30125(e)(2)).

* * * * *

202. Revise the section heading of § 300.64 to read as follows:

§ 300.64 Participation by Federal candidates and officeholders at non-Federal fundraising events (52 U.S.C. 30125(e)(1) and (3)).

* * * * *

203. Revise the section heading of § 300.65 to read as follows:

§ 300.65 Exceptions for certain tax-exempt organizations (52 U.S.C. 30125(e)(1) and (4)).

* * * * *

204. Revise the section heading of § 300.70 to read as follows:

§ 300.70 Scope (52 U.S.C. 30125(f)(1)).

* * * * *

205. Revise the section heading of § 300.71 to read as follows:

§ 300.71 Federal funds required for certain public communications (52 U.S.C. 30125(f)(1)).

* * * * *

206. Revise the section heading of § 300.72 to read as follows:

§ 300.72 Federal funds not required for certain communications (52 U.S.C. 30125(f)(2)).

* * * * *

PART 9001—SCOPE

207. The authority citation for part 9001 continues to read as follows:

Authority: 26 U.S.C. 9009(b).

§ 9001.1 [Amended]

208. In § 9001.1, revise all references to “sections 431-455 of title 2” to read “sections 30101-30145 of Title 52”.

PART 9002—DEFINITIONS

209. The authority citation for part 9002 continues to read as follows:

Authority: 26 U.S.C. 9002 and 9009(b).

§ 9002.11 [Amended]

210. Amend paragraph (b)(5) of § 9002.11 to remove “2 U.S.C. 431” and add in its place “52 U.S.C. 30101”.

§ 9002.13 [Amended]

211. Amend § 9002.13 to remove “2 U.S.C. 431(8), 441b and 441c” and add in its place “52 U.S.C. 30101(8), 30118, and 30119”.

PART 9003—ELIGIBILITY FOR PAYMENTS

212. The authority citation for part 9003 continues to read as follows:

Authority: 26 U.S.C. 9003 and 9009(b).

§ 9003.1 [Amended]

213. In § 9003.1:

a. Amend paragraph (b)(8) to remove “2 U.S.C. 431” and add in its place “52 U.S.C. 30101”; and

b. Amend paragraph (b)(9) to remove “2 U.S.C. 437g” and add in its place “52 U.S.C. 30109”.

§ 9003.3 [Amended]

214. In § 9003.3:

a. Amend paragraphs (a)(2)(i)(A), (a)(2)(i)(B), (a)(2)(i)(I), (a)(2)(ii)(E), (b)(6), (c)(3)(iv), and (c)(6) to remove “2 U.S.C. 431” and add in its place “52 U.S.C. 30101”;

b. Amend paragraph (a)(2)(i)(C) to remove “2 U.S.C. 437g” and add in its place “52 U.S.C. 30109”;

c. Amend paragraphs (a)(2)(ii)(A) and (a)(2)(ii)(C) to remove “title 2 of the United States Code” and add in its place “Title 52 of the United States Code”;

d. Amend paragraph (a)(2)(iii) to remove “2 U.S.C. 441a(b)” and add in its place “52 U.S.C. 30116(b)”; and

e. Amend paragraph (a)(2)(iv) to remove “2 U.S.C. 439a” and add in its place “52 U.S.C. 30114”.

§ 9003.5 [Amended]

215. In paragraph (b)(1)(iii)(B) of § 9003.5, remove “dairy” and add in its place “daily”.

PART 9004—ENTITLEMENT OF ELIGIBLE CANDIDATES TO PAYMENTS; USE OF PAYMENTS

216. The authority citation for part 9004 continues to read as follows:

Authority: 26 U.S.C. 9004 and 9009(b).

§ 9004.10 [Amended]

217. Amend paragraphs (a) and (b) of § 9004.10 to remove “title 2” and add in its place “Title 52”.

PART 9006—REPORTS AND RECORDKEEPING

218. Revise the authority citation for part 9006 to read as follows:

Authority: 52 U.S.C. 30104; 26 U.S.C. 9009(b).

PART 9007—EXAMINATIONS AND AUDITS; REPAYMENTS

219. The authority citation for part 9007 continues to read as follows:

Authority: 26 U.S.C. 9007 and 9009(b).

§ 9007.1 [Amended]

220. In § 9007.1:

a. Amend paragraph (b)(1)(iii) to remove “2 U.S.C. 437d” and add in its place “52 U.S.C. 30107”;

b. Amend paragraph (b)(1)(v) to remove “2 U.S.C. 437d(a)(1)” and add in its place “52 U.S.C. 30107(a)(1)” and to remove “2 U.S.C. 437d(a)(3)” and add in its place “52 U.S.C. 30107(a)(3); and

c. Amend paragraph (d)(2) to remove “2 U.S.C. 437g” and add in its place “52 U.S.C. 30109”.

PART 9008—FEDERAL FINANCING OF PRESIDENTIAL NOMINATING CONVENTIONS

221. Revise the authority citation for part 9008 to read as follows:

Authority: 52 U.S.C. 30105, 30111(a)(8), 30125; 26 U.S.C. 9008, 9009(b).

§ 9008.1 [Amended]

222. Amend paragraphs (a) and (b) of § 9008.1 to remove “2 U.S.C. 437” and add in its place “52 U.S.C. 30105”.

§ 9008.3 [Amended]

223. In § 9008.3:

a. Amend paragraph (a)(4)(ii) to remove “2 U.S.C. 437” and add in its place “52 U.S.C. 30105”;

b. Amend paragraph (a)(4)(vii) to remove “2 U.S.C. 431” and add in its place “52 U.S.C. 30101”; and

c. Amend paragraph (a)(4)(viii) to remove “2 U.S.C. 437g” and add in its place “52 U.S.C. 30109”.

§ 9008.5 [Amended]

224. Amend paragraph (a) of § 9008.5 to remove “2 U.S.C. 441a(c)” and add in its place “52 U.S.C. 30116(c)”.

§ 9008.6 [Amended]

225. Amend paragraph (a)(3) of § 9008.6 to remove “Title 2” and add in its place “Title 52”.

§ 9008.7 [Amended]

226. Amend paragraph (b)(3) of § 9008.7 to remove “2 U.S.C. 437g” and add in its place “52 U.S.C. 30109”.

§ 9008.8 [Amended]

227. Amend paragraphs (a)(3) and (b)(4)(ii)(A) of § 9008.8 to remove “2 U.S.C. 431” and add in its place “52 U.S.C. 30101”.

§ 9008.55 [Amended]

228. Amend paragraph (d) of § 9008.55 to remove “2 U.S.C. 441i(e)(4)(A)” and add in its place “52 U.S.C. 30125(e)(4)(A)”.

PART 9031—SCOPE

229. The authority citation for part 9031 continues to read as follows:

Authority: 26 U.S.C. 9031 and 9039(b).

§ 9031.1 [Amended]

230. In § 9031.1, revise all references to “sections 431-455 of title 2” to read “sections 30101-30145 of Title 52”.

PART 9032—DEFINITIONS

231. The authority citation for part 9032 continues to read as follows:

Authority: 26 U.S.C. 9032 and 9039(b).

§ 9032.4 [Amended]

232. Amend § 9032.4 to remove “2 U.S.C. 431(8)(A)” and add in its place “52 U.S.C. 30101(8)(A)”.

PART 9033—ELIGIBILITY FOR PAYMENTS

233. The authority citation for part 9033 continues to read as follows:

Authority: 26 U.S.C. 9003(e), 9033 and 9039(b).

§ 9033.1 [Amended]

234. In § 9033.1:

a. Amend paragraph (b)(10) to remove “2 U.S.C. 431” and add in its place “52 U.S.C. 30101”; and

b. Amend paragraph (b)(11) to remove “2 U.S.C. 437g” and add in its place “52 U.S.C. 30109”.

§ 9033.2 [Amended]

235. Amend paragraph (b)(1) of § 9033.2 to remove “2 U.S.C. 441a(a)(1)(B) and 441a(a)(2)(B)” and add in its place “52 U.S.C. 30116(a)(1)(B) and 30116(a)(2)(B)”.

§ 9033.9 [Amended]

236. Amend paragraph (a) of § 9033.9 to remove “2 U.S.C. 434” and add in its place “52 U.S.C. 30104”.

§ 9033.10 [Amended]

237. Amend paragraph (d) of § 9033.10 to remove “2 U.S.C. 437g” and add in its place “52 U.S.C. 30109”.

PART 9034—ENTITLEMENTS

238. The authority citation for part 9034 continues to read as follows:

Authority: 26 U.S.C. 9034 and 9039(b).

§ 9034.3 [Amended]

239. Amend paragraph (e) of § 9034.3 to remove “2 U.S.C. 441a, 441b, 441c, 441e, 441f, or 441g” and add in its place “52 U.S.C. 30116, 30118, 30119, 30121, 30122, or 30123”.

§ 9034.4 [Amended]

240. In § 9034.4:

a. Amend paragraph (a)(2) to remove “2 U.S.C. 441a(b)” and add in its place “52 U.S.C. 30116(b)”; and

b. Amend paragraph (d)(1) to remove “2 U.S.C. 441a(a)(5)(C)” and add in its place “52 U.S.C. 30116(a)(5)(C)”.

§ 9034.5 [Amended]

241. Amend paragraph (e)(2)(i) of § 9034.5 to remove “2 U.S.C. 441a” and add in its place “52 U.S.C. 30116”.

§ 9034.8 [Amended]

242. Amend paragraph (c)(4)(i) of § 9034.8 to remove “title 2” and add in its place “Title 52”.

§ 9034.9 [Amended]

243. Amend paragraphs (a) and (b) of § 9034.9 to remove “title 2” and add in its place “Title 52”.

PART 9035—EXPENDITURE LIMITATIONS

244. The authority citation for part 9035 continues to read as follows:

Authority: 26 U.S.C. 9035 and 9039(b).

§ 9035.1 [Amended]

245. Amend paragraph (a)(1) of § 9035.1 to remove “2 U.S.C. 441a(c)” wherever it appears and add in its place “52 U.S.C. 30116(c)”, and to remove “2 U.S.C. 441a(e)” and add in its place “52 U.S.C. 30116(e)”.

PART 9036—REVIEW OF MATCHING FUND SUBMISSIONS AND CERTIFICATION OF PAYMENTS BY COMMISSION

246. The authority citation for part 9036 continues to read as follows:

Authority: 26 U.S.C. 9036 and 9039(b).

§ 9036.2 [Amended]

247. Amend paragraph (b)(1)(v) of § 9036.2 to remove “2 U.S.C. 432(c)(3), 434(b)(3)(A)” and add in its place “52 U.S.C. 30102(c)(3), 30104(b)(3)(A)”.

PART 9038—EXAMINATIONS AND AUDITS

248. The authority citation for part 9038 continues to read as follows:

Authority: 26 U.S.C. 9038 and 9039(b).

§ 9038.1 [Amended]

249. In § 9038.1:

a. Amend paragraph (b)(1)(iii) to remove “2 U.S.C. 437d” and add in its place “52 U.S.C. 30107”;

b. Amend paragraph (b)(1)(v) to remove “2 U.S.C. 437d(a)(1)” and add in its place “52 U.S.C. 30107(a)(1)” and to remove “2 U.S.C. 437(d)(a)(3)” and add in its place “52 U.S.C. 30107(a)(3)”; and

c. Amend paragraph (d)(2) to remove “2 U.S.C. 437g” and add in its place “52 U.S.C. 30109”.

PART 9039—REVIEW AND INVESTIGATION AUTHORITY

250. The authority citation for part 9039 continues to read as follows:

Authority: 26 U.S.C. 9039.

§ 9039.3 [Amended]

251. Amend paragraphs (a)(2) and (b)(3) of § 9039.3 to remove “2 U.S.C. 437g” and add in its place “52 U.S.C. 30109”.

On behalf of the Commission.
Dated: December 17, 2014.
Lee E. Goodman,
Chairman, Federal Election Commission.

[FR Doc. 2014-29933 Filed 12-24-14; 8:45 am]

BILLING CODE 6715-01-P